INTERNATIONAL TRADE COMMISSION

[USITC SE-19-017]

Cancellation Sunshine Act Meeting

Agency Holding the Meeting: United States International Trade Commission.

ORIGINAL TIME AND DATE: May 9, 2019 at 9:30 a.m.

PLACE: Room 101, 500 E Street SW, Washington, DC 20436, Telephone: (202) 205-2000.

STATUS: Open to the public.

In accordance with 19 CFR 201.37(a), the Commission hereby gives notice that the Commission has determined to cancel the meeting scheduled for May 9, 2019 at 9:30 a.m.

Earlier notification of this cancellation was not possible.

By order of the Commission.
Issued: May 8, 2019.
William Bishop,
Supervisory Hearings and Information Officer.

[FR Doc. 2019-09836 Filed 5-8-19; 4:15 pm]

BILLING CODE 7020-02-P